DEPARTMENT OF AGRICULTURE

Commodity Credit Corporation

Notice of Request for Extension of Currently Approved Information Collections

AGENCY: Commodity Credit Corporation, USDA.

ACTION: Notice and request for comments.

SUMMARY: In accordance with the Paperwork Reduction Act of 1995, this notice announces the Commodity Credit Corporation's (CCC) intention to request an extension for a currently approved information collections in support of the regulations governing the foreign donation of agricultural commodities under the section 416(b) and Food for Progress programs, and the McGovern-Dole International Food for Education and Child Nutrition Program.

DATES: Comments on this notice must be received by June 4, 2007.

Additional Information or Comments: Contact Ronald Croushorn, Director, Food Assistance Division, Foreign Agricultural Service, U.S. Department of Agriculture, Stop 1034, Washington, DC 20250-1034, telephone (202) 720-4221 or e-mail at ron.croushorn@usda.gov.

SUPPLEMENTARY INFORMATION: Title: Foreign Donation of Agricultural Commodities (Foreign Donation) and McGovern-Dole International Food for Education and Child Nutrition Program (Food for Education).

OMB Number: 0551-0035: Foreign Donation of Agricultural Commodities and McGovern-Dole International Food for Education and Child Nutrition Program.

Expiration Date of Approval: August 31, 2007.

Type of Request: Extension of currently approved information collections.

Abstract: Under both Foreign Donation of Agricultural Commodities and the McGovern-Dole International Food for Education and Child Nutrition Program, information will be gathered from applicants desiring to receive grants under the programs to determine the viability of requests for resources to implement activities in foreign countries. Applicants that receive grants must submit compliance reports until commodities or local currencies generated from the sale thereof are utilized. Shipping agents must submit information and certifications regarding their activities amd affiliations. Documents are used to develop effective grant agreements and assure statutory requirements and objectives are met.

Estimate of Burden: The public reporting burden for each respondent resulting from information collection under the Foreign Donation Program or the Food for Education Program varies in direct relation to the number and type of agreements entered into by such respondent. The estimated average reporting burden for the Foreign Donation of Agricultural Commodities is 11 hours per response and for the Food for Education Program is 11 hours per response.

Respondents: U.S. private voluntary organizations, U.S. cooperatives, foreign governments, shipping agents, ship owners and brokers, and survey companies.

Estimate Number of Respondents: 241 per annum.

Estimated Number of Responses per Respondent: 19 per annum.

Estimated Total Annual Burden of Respondents: 50,434 hours.

Copies of this information collection can be obtained from Tamoria Thompson-Hall, the Agency Information Collection Coordinator, at (202) 690-1690 or e-mail at Tamoria.thompson@usda.gov.

Requests for comments: Send comments regarding (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology.

Comments may be sent to Ronald Croushorn, Director, Food Assistance Division, FAS, USDA, Stop 1034, Washington, DC 20250, or ron.croushorn@usda.gov, or to the Desk Officer for Agriculture, Office of Information and Regulatory Affairs, Office of Management and Budget (OMB), Washington, DC 20503. Persons with disabilities who require an alternative means for communication of information (Braille, large print, audiotape, etc.) should contact USDA's Target Center at (202) 720-2600 (voice and TDD).

All responses to this notice will be summarized and included in the request for OMB approval. All comments will also become a matter of public record.

Signed at Washington, DC, on March 28, 2007.
Michael Yost,
Administrator Foreign Agricultural Service.

[FR Doc. 07-1628 Filed 4-2-07; 8:45 am]

BILLING CODE 3410-10-M